DEPARTMENT OF LABOR

Employment and Training Administration

[TA-W-59,117]

Point Technologies, Gibbon, MN; Affirmative Determinations for Worker Adjustment Assistance and Alternative Trade Adjustment Assistance; Correction

This notice rescinds the notice of certification of eligibility to apply for Alternative Trade Adjustment Assistance applicable to TA-W-59,117, which was published in the Federal Register on April 18, 2006 (71 FR 19898-19901) in FR Document E6-5768.

This rescinds the certification of eligibility for workers of TA-W-59,117, to apply for Alternative Trade Adjustment Assistance and confirms eligibility to apply for Worker Adjustment Assistance as identified on page 19899 in the third column, the twelveth TA-W-number listed.

The Department appropriately published in the Federal Register April 18, 2006, page 19900, under the notice of Negative Determinations for Alternative Trade Adjustment Assistance, the denial of eligibility applicable to workers of TA-W-59,117. The notice appears on page 19900 in the third column, the nineteenth TA-W-number listed.

Signed in Washington, DC, this 28th day of July 2006.
Erica R. Cantor,
Director, Division of Trade Adjustment Assistance.

[FR Doc. E6-12776 Filed 8-4-06; 8:45 am]

BILLING CODE 4510-30-P